ENVIRONMENTAL PROTECTION AGENCY

40 CFR Part 50

[EPA-HQ-OAR-2014-0128; FRL-5788-06-OAR]

RIN 2060-AS35

Public Hearing for the Secondary National Ambient Air Quality Standards for Oxides of Nitrogen, Oxides of Sulfur, and Particulate Matter

AGENCY: Environmental Protection Agency (EPA).

ACTION: Notification of public hearing.

SUMMARY: The Environmental Protection Agency (EPA) is announcing that a virtual public hearing will be held for the proposed action titled, “Review of the Secondary National Ambient Air Quality Standards for Oxides of Nitrogen, Oxides of Sulfur, and Particulate Matter” which is published elsewhere in this Federal Register. The hearing will be held on May 8, 2024. Based on the EPA's review of the ecological air quality criteria and the secondary national ambient air quality standards (NAAQS) for oxides of nitrogen (N oxides), oxides of sulfur (SOX), and particulate matter (PM), the EPA is proposing to revise the existing secondary SO2 standard. Additionally, the Agency proposes to retain the existing secondary standards for N oxides and PM. The EPA also proposes revisions to data handling requirements for the proposed secondary SO2 standard.

DATES: The EPA will hold a virtual public hearing on May 8, 2024. (Please refer to the SUPPLEMENTARY INFORMATION section for additional information on the public hearing).

FOR FURTHER INFORMATION CONTACT: For information or questions about the public hearing, please contact the public hearing team at nox-sox-pm-hearing@rti.org or 919-541-3650. For information or questions regarding the review of the secondary NAAQS for oxides of nitrogen, oxides of sulfur, and particulate matter, please contact Ms. Ginger Tennant, Health and Environmental Impacts Division, Office of Air Quality Planning and Standards, U.S. Environmental Protection Agency, Mail Code C539-04, Research Triangle Park, NC 27711; telephone: (919) 541-4072; email: tennant.ginger@epa.gov.

SUPPLEMENTARY INFORMATION:

I. General Information. The EPA is reviewing the secondary NAAQS for ecological effects of N oxides, SOX, and PM as required by section 109 (42 U.S.C. 7409) of the Clean Air Act. The proposed action for which the EPA is holding a public hearing is published elsewhere in this Federal Register and is available at https://www.epa.gov/naaqs/nitrogen-dioxide-no2-and-sulfur-dioxide-so2-secondary-standards-federal-register-notices. The public hearing will provide interested parties the opportunity to present data, views, or arguments concerning the EPA's proposed decisions in the review of the secondary NAAQS for ecological effects of SOX, N oxides and PM. Written statements and supporting information submitted during the comment period will be considered with the same weight as any oral comments and supporting information presented at the public hearing.

A. Participation in Virtual Public Hearings: The public hearing will be held via virtual platform on May 8, 2024, and will convene at 11:00 a.m. Eastern Time (ET). The hearing will conclude at 7:00 p.m. ET or, if there are no additional speakers, 15 minutes after the last pre-registered speaker has testified. The EPA will announce any changes to the schedule or hearing and further details at https://www.epa.gov/so2-pollution/public-hearing-proposed-decision-so2-no2-and-pm-secondary-national-ambient-air.

The EPA will begin registering speakers for the hearing upon publication of this document in the Federal Register. To register to speak at the virtual hearing, please follow the directions at https://www.epa.gov/so2-pollution/public-hearing-proposed-decision-so2-no2-and-pm-secondary-national-ambient-air or contact the public hearing team by email at nox-sox-pm-hearing@rti.org or by phone at 919-541-3650. Prior to the hearing, the EPA will post a general agenda for the hearing that will list the pre-registered speakers in approximate order at: https://www.epa.gov/so2-pollution/public-hearing-proposed-decision-so2-no2-and-pm-secondary-national-ambient-air. The EPA will make every effort to follow the schedule as closely as possible on the day of the hearing; however, please plan for the hearings to run either ahead of schedule or behind schedule. Each commenter will have up to 5 minutes to provide oral testimony. The EPA encourages commenters to provide the EPA with a copy of their oral testimony by submitting the text of your oral testimony as written comments to the rulemaking docket. The EPA may ask clarifying questions during the oral presentations but will not respond to the presenters at that time. Written statements and supporting information submitted during the comment period will be considered with the same weight as oral comments and supporting information presented at the public hearing. Please note that any updates made to any aspect of the hearing is posted online at https://www.epa.gov/so2-pollution/public-hearing-proposed-decision-so2-no2-and-pm-secondary-national-ambient-air. While the EPA expects the hearing to go forward as set forth above, please monitor our website to determine if there are any updates. The EPA does not intend to publish a document in the Federal Register announcing updates.

If you require the services of a translator or special accommodations such as audio description, please pre-register for the hearing with the public hearing team and describe your needs by April 22, 2024. The EPA may not be able to arrange accommodations without advance notice.

B. How can I get copies of the proposed action and other related information? The EPA has established a docket under Docket ID No. EPA-HQ-OAR-2014-0128 (available at https://www.regulations.gov). Publicly available docket materials are available either electronically through www.regulations.gov or in hard copy at the EPA Docket Center, WJC West Building, Room 3334, 1301 Constitution Ave. NW, Washington, DC. The Docket Center's hours of operations are 8:30 a.m.-4:30 p.m., Monday-Friday (except Federal Holidays). For further information on the EPA Docket Center services and the current status, see: https://www.epa.gov/dockets. The EPA has also made available information related to the proposed action on the following website: https://www.epa.gov/naaqs/nitrogen-dioxide-no2-and-sulfur-dioxide-so2-secondary-air-quality-standards.

Erika N. Sasser,
Director, Health and Environmental Impacts Division.

[FR Doc. 2024-07960 Filed 4-12-24; 8:45 am]

BILLING CODE 6560-50-P